DEPARTMENT OF LABOR

Office of the Secretary

Agency Information Collection Activities; Submission for OMB Review; Comment Request; Application for Prevailing Wage Determination

ACTION: Notice of availability; request for comments.

SUMMARY: The Department of Labor (DOL) is submitting the Employment and Training Administration (ETA) sponsored information collection request (ICR) revision titled, “Application for Prevailing Wage Determination,” to the Office of Management and Budget (OMB) for review and approval for use in accordance with the Paperwork Reduction Act (PRA) of 1995. Public comments on the ICR are invited.

DATES: The OMB will consider all written comments that agency receives on or before July 1, 2019.

ADDRESSES: A copy of this ICR with applicable supporting documentation, including a description of the likely respondents, proposed frequency of response, and estimated total burden, may be obtained free of charge from the RegInfo.gov website at http://www.reginfo.gov/public/do/PRAViewICR?ref_nbr=201905-1205-005 (this link will only become active on the day following publication of this notice) or by contacting Frederick Licari by telephone at 202-693-8073, TTY 202-693-8064, (these are not toll-free numbers) or sending an email to DOL_PRA_PUBLIC@dol.gov.

Submit comments about this request by mail to the Office of Information and Regulatory Affairs, Attn: OMB Desk Officer for DOL-ETA, Office of Management and Budget, Room 10235, 725 17th Street NW, Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW, Washington, DC 20210; or by email: DOL_PRA_PUBLIC@dol.gov.

FOR FURTHER INFORMATION CONTACT: Frederick Licari by telephone at 202-693-8073 (this is not a toll-free number) or TTY 202-693-8064 (this is not a toll-free number) or sending an email to DOL_PRA_PUBLIC@dol.gov.

SUPPLEMENTARY INFORMATION: This ICR seeks approval under the PRA for revisions to the Form ETA-9141, Application for Prevailing Wage Determination; the instructions accompanying this form; and a new appendix to the Form ETA-9141, Appendix A, Request for Additional Worksite(s) for DOL's issuance of prevailing wages for an employer's additional worksites. This information collection has been classified as a revision. The proposed form changes will include the reorganization of the form to better correspond with related forms for the temporary and permanent employment certification programs. Also, the proposed form changes will collect: (1) Attorney or agent information; and (2) alternative requirements in a standardized format. The proposed revisions will better align information collection requirements with DOL's current regulatory framework, provide greater clarity to employers on regulatory and procedural requirements, standardize and streamline information collection to reduce the employer's time and burden when preparing applications, and promote greater efficiency and transparency in prevailing wages determinations. The proposed Appendix A, Request for Additional Worksite(s), will provide employers with a standardized format to request prevailing wage determinations for additional worksites. Appendix A will also enable DOL efficiently to determine prevailing wages for job opportunities with additional worksites. With the 30-day proposal, DOL has modified Appendix A to include sections “for official government use only,” which DOL will complete to provide employers with prevailing wage details for multiple worksites. The information collection is required by the Immigration and Nationality Act (INA), sections 103(a)(6); 203(b)(3); 212(a)(5)(A); 212(n), (p), (t); and 214(c) [8 U.S.C. 1103(a)(6); 1153(b)(3); 1182(a)(5)(A); 1182(n), (p), (t); and 1184(c)]; 8 CFR 214.2(h) and 20 CFR 655.10, 655.731, and 656.40, which establish procedures for employers seeking prevailing wages.

The Form ETA-9141 is used to determine the prevailing wages for job opportunities for which employers seek to hire foreign workers in the H-2B, H-1B, H-1B1, and E-3 temporary employment certification programs and the permanent employment certification program (PERM program). Prior to submitting foreign labor certification applications to the DOL for the H-2B and Permanent foreign labor certification programs, employers must obtain from DOL a prevailing wage for their job opportunities based on the occupation and location of intended employment. Employers may also request a prevailing wage for H-1B, H-1B1, and E-3 labor condition applications. The information DOL collects from employers on the Form ETA-9141serves as the basis by which DOL determines the prevailing wages employers must pay foreign workers under the above foreign labor certification programs to ensure employment of the foreign workers will not adversely affect the wages of similarly employed U.S. workers.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1205-0508. The current approval is scheduled to expire on May 31, 2019; however, the DOL notes that existing information collection requirements submitted to the OMB receive a month-to-month extension while they undergo review. New requirements would only take effect upon OMB approval. For additional substantive information about this ICR, see the related notice published in the Federal Register on February 12, 2019 (84 FR 3494).

Interested parties are encouraged to send comments to the OMB, Office of Information and Regulatory Affairs at the address shown in the ADDRESSES section within thirty (30) days of publication of this notice in the Federal Register. In order to help ensure appropriate consideration, comments should mention OMB Control Number 1205-0508 The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: Application for Prevailing Wage Determination.

OMB Control Number: 1205-0508.

Affected Public: Individuals or Households, Private Sector (businesses or other for-profit institutions).

Total Estimated Number of Respondents: 88,599.

Total Estimated Number of Responses: 320,850.

Total Estimated Annual Time Burden: 143,194.

Total Estimated Annual Other Costs Burden: $0.

Authority: 44 U.S.C. 3507(a)(1)(D).

Dated: May 23, 2019.
Michel Smyth,
Departmental Clearance Officer.

[FR Doc. 2019-11316 Filed 5-29-19; 8:45 am]

BILLING CODE 4510-FP-P